DEPARTMENT OF DEFENSE

Office of the Secretary

[Docket ID DoD-2020-OS-0097]

Privacy Act of 1974; System of Records

AGENCY: Office of the Secretary of Defense (OSD), Department of Defense (DoD).

ACTION: Notice of a new system of records.

SUMMARY: In accordance with the Privacy Act of 1974, the DoD proposes to establish a new system of records covering all DoD components titled, “Defense Training Records” DoD 0005. This system of records describes the DoD's collection, use, and maintenance of records about training delivered to DoD Service Members, civilian personnel, and other DoD-affiliated individuals. The training data includes enrollment and participation information, information pertaining to class schedules, programs, and instructors, training trends and needs, testing and examination materials, and assessments of training efficacy. Additionally, the DoD is issuing a Notice of Proposed Rulemaking, which proposes to exempt this system of records from certain provisions of the Privacy Act, elsewhere in today's issue of the Federal Register.

DATES: This new system of records is effective upon publication; however, comments on the Routine Uses will be accepted on or before January 27, 2021. The Routine Uses are effective at the close of the comment period.

ADDRESSES: You may submit comments, identified by docket number and title, by any of the following methods:

* Federal Rulemaking Portal: https://www.regulations.gov.

Follow the instructions for submitting comments.

* Mail: The DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The Defense Training Records system of records is being established as a DoD-wide Privacy Act system of records for use by all DoD offices and components. A DoD-wide system of records notice (SORN) supports multiple DoD paper or electronic recordkeeping systems operated by more than one DoD component and maintain the same kind of information about individuals for the same purpose. Establishment of DoD-wide SORNs helps the DoD standardize the rules governing the collection, maintenance, use, and sharing of personal information in key areas across the enterprise. DoD-wide SORNs also reduce duplicative and overlapping SORNs published by separate DoD components. The creation of this DoD-wide SORNs is expected to make locating relevant SORNs easier for DoD personnel and the public, and create efficiencies in the operation of the DoD privacy program.

This system of records describes training records created and maintained by all component parts of DoD, wherever they are maintained. The system consists of both electronic and paper records and will be used by DoD components and offices to maintain records about training provided to DoD-affiliated individuals, including Military Service members, civilian employees, dependents and family members, contractors, and other individuals enrolled in courses administered by the DoD. These records may include information pertaining to class schedules, enrollment, participation, programs, and instructors; training trends and needs; testing and examination materials; and assessments of training efficacy. The collection and maintenance of this information will assist the DoD in meeting its obligations under law, regulation, and policy to provide training on various subjects to ensure that the agency mission can be successfully accomplished. Records pertaining to diploma or degree-conferring institutions, such as the military academies (United States Military Academy, United States Naval Academy, United States Air Force Academy, United States Marine Academy), the DoD Education Activity Schools, Uniformed Service University of the Health Sciences, and the National Defense University, are not part of this system of records.

Additionally, the DoD is issuing a Notice of Proposed Rulemaking to exempt this system of records from certain provisions of the Privacy Act elsewhere in today's issue of the Federal Register.

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and Office of Management and Budget (OMB) Circular No. A-108, DoD has provided a report of this system of records to the OMB and to Congress.

Dated: November 25, 2020.
Aaron T. Siegel,
Alternate OSD Federal Register Liaison Officer, Department of Defense.

SYSTEM NAME AND NUMBER:

Defense Training Records, DoD 0005.

SECURITY CLASSIFICATION:

Classified and unclassified.

SYSTEM LOCATION:

Department of Defense (Department or DoD), located at 1000 Defense Pentagon, Washington, DC 20301-1000, and other Department installations, offices, or mission locations, at which electronic or paper training records may be maintained. Information may also be stored within a government-certified cloud, implemented and overseen by the Department's Chief Information Officer (CIO), 6000 Defense Pentagon, Washington, DC 20301-6000.

SYSTEM MANAGER(S):

The system managers are as follows:

A. Program Manager, Advanced Distributed Learning Initiative, Office of the Assistant Secretary of Defense for Readiness, 4000 Defense Pentagon, Washington, DC 20301-4000, whs-mc-alex.esd.mbx.osd-js-foia-requester-service-center@mail.mil.

B. Commander, Air Education and Training Command (AETC), Joint Base San Antonio-Randolph, TX, (703) 693-2735.

C. Commander, U.S. Army Training Support Center (USATSC), 1900 Jackson Lane, Fort Eustis, VA 23604-5166, (571) 515-0306.

D. Executive Director, Naval Education and Training Command (NETC), Learning and Development, 250 Dallas Street, Pensacola, FL 32508, donfoia-pa@navy.mil.

E. Commanding General, United States Marine Corps, Training and Education Command (TECOM), 1019 Elliot Road, Quantico, VA 22134-5010, (703) 614-4008.

For Combatant Commands, or other Defense Agencies, the system manager can be found at: www.FOIA.gov under the DoD component with oversight of the records.

AUTHORITY FOR MAINTENANCE OF THE SYSTEM:

5 U.S.C. Chapter 41, Training; 5 CFR part 410, Office of Personnel Management-Training; E.O. 11348, Providing for the Further Training of Government Employees, as amended by E.O. 12107, Relating to the Civil Service Commission and Labor-Management in the Federal Service; 10 U.S.C. 113, Secretary of Defense; 10 U.S.C. 136, Under Secretary of Defense for Personnel and Readiness; 10 U.S.C. 1746 Defense Acquisition University; 10 U.S.C.1747, Acquisition Fellowship Program; DoD Instruction 1215.08 Senior Reserve Officers Training Corp Programs; DoD Directive 1322.18, Military Training; DoD Directive 1322.08E, Voluntary Education Programs for Military Personnel; DoD Instruction 1322.26, Distributed Learning; DoD Instruction 1322.25, Voluntary Education Program; DoD Instruction 1322.9, Job Training, Employment Skills Training, Apprenticeships, and Internships (JTEST-AI) for Eligible Service Members; DoD Instruction 1430.16, Growing Civilian Leaders; DoD Instruction 5132.13, Staffing of Security Cooperation Organizations (SCOs) and the Selection and Training of Security Cooperation Personnel; DoD Instruction 1215.21, Reserve Component (RC) Use of Electronic-based Distributed Learning; Directive-Type Memorandums 13-004, Operation of the DoD Financial Management Certification Program Methods for Training; and DoD Instruction 1015.2, Military Morale, Welfare and Recreation (MWR), DoD Instruction 1300.26, Operation of the DoD Financial Management Certification Program; and E.O. 9397.

PURPOSE(S) OF THE SYSTEM:

a. To support DoD training as may be required by law and policy, as well as for mission, professional development, and employment purposes.

b. To track individual training and professional development, including enrollment, participation and completion information; and class schedules, programs, and instructors.

c. To track training and professional development trends and needs, testing and examination materials, credentialing, promotional decisions, career development planning, and assessments of professional competencies and training efficacy.

d. To determine eligibility for enrollment/attendance, and facilitate post-training job referrals and placement.

e. To monitor and track the expenditure of training and related travel funds, and training-related contract management.

f. To facilitate the compilation of statistical information about training.

g. To fulfill regulatory requirements to report civilian employee training to the Office of Personnel Management.

CATEGORIES OF INDIVIDUALS COVERED BY THE SYSTEM:

DoD-affiliated individuals enrolled in training sponsored or administered by DoD, including: Military Service members (active duty, Guard/Reserve, cadets and midshipmen, Public Health Services, and the Coast Guard personnel when operating as a Military Service with the Navy), DoD civilian employees (including non-appropriated fund employees and DoD Outside the Contiguous United States hires, also known as local national employees), dependents and family members of the above, contractors, personnel of other government agencies, and other individuals affiliated with the DoD.

CATEGORIES OF RECORDS IN THE SYSTEM:

a. Personal information, such as name, Social Security number (SSN), DoD ID Number, or other DoD assigned student or educational ID number, date and place of birth, gender, citizenship, driver's license, photograph, email address(es), personal and duty phone numbers, emergency contact information, race and ethnic origin, religious preference collected to support the placement of chaplain at appropriate locations.

b. Employment information, such as employment status, duty position, service component, branch, personnel classification, security clearance, grade/rank/series, military status, military occupational specialty, official orders, unit of assignment, occupation, and other organizational affiliation information.

c. Select Personal Health Information, such as medical profiles, physical examinations, psychological test record for special assignment eligibility, and disability information collected to consider or provide accommodations to students during training.

d. Course and training data, such as nomination forms, instructor lists, examination and course completion status, professional development, worksheets, training waivers, student identification number, course descriptions and schedules, enrollment and participation information, graduation dates, examination and testing materials, grades and student evaluations, aptitudes and personal qualities, course and instructor critiques, date graduated or eliminated with reasons for elimination, and information pertaining to training trends, needs, and assessments.

e. Equipment issued to trainees and other training participants, and other reports pertaining to training, such as credit hours accumulated, assignment history, curricula, and individual goals.

f. Professional development information, to include, mentor agreements, evaluations and performance documentations, career development planning, background and biographical information, civilian and military education information, and certifications.

g. Educational information, such as degree, major/minor, grade point average, institution name, academic status, and transcripts.

h. Financial information, such as payment records, and travel and other expenditures related to the training.

NOTE: Records pertaining to diploma and degree-conferring institutions, such as the military academies (United States Military Academy, United States Naval Academy, United States Air Force Academy, United States Marine Academy); the DoD Education Activity Schools, Uniformed Service University of the Health Sciences, and the National Defense University, are not part of this system of records

RECORD SOURCE CATEGORIES:

a. Individuals applying for or undergoing training, mentors, supervisors, instructors, and facilitators.

b. Academic institutions and/or other organizations supporting the development or delivery of DoD training, including training offered to select DoD personnel by the Intelligence Community.

c. All DoD databases flowing into or accessed through the following integrated data systems, environments, applications, and tools: the Defense Civilian Human Resources Management System (DCHRMS), Military Personnel (MILPERS), Department of Defense Voluntary Education System (DODVES), Defense Enrollment Eligibility Reporting System (DEERS), Army Training Requirement and Resources System (ATRRS), Total Workforce Management System (TWMS), Career Acquisition Personnel & Position Management Information System (CAPPMIS), Defense Civilian Personnel Data System (DPCPDS), Acquisition Career Management System (ACMS), Joint Personnel Adjudication System (JPAS), Medical Protection System (MEDPROS), and Management Information System (MIS II).

d. Other DoD learning management systems, the data from which data is migrated into the DoD Enterprise Learning Modernization System.

e. Other federal government learning and student management systems, such as the Department of Education Postsecondary Education Participants System (PEPS), and State Departments of Education and their grant recipients.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

a. To contractors, grantees, experts, consultants, students, and others performing or working on a contract, service, grant, cooperative agreement, or other assignment for the federal government when necessary to accomplish an agency function related to this system of records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines that the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

i. To such recipients and under such circumstances and procedures as are mandated by Federal statute or treaty.

j. To the Office of Personnel Management to satisfy requirements to submit civilian employee training data in accordance with 5 CFR part 410.

k. To a Federal, State, tribal, local or foreign government agency or professional licensing authority in response to its request, in connection with the hiring or retention of an employee, the issuance of a security clearance, the reporting of an investigation of an employee, the letting of a contract, or the issuance or status of a license, grant, or other benefit by the requesting entity, to the extent that the information is relevant and necessary to the requesting entity's decision on the matter.

l. To educational institutions or training facilities for purposes of enrollment and verification of employee attendance and performance.

m. To the Equal Employment Opportunity Commission, Merit Systems Protection Board, Office of the Special Counsel, Federal Labor Relations Authority, or Office of Personnel Management or to arbitrators and other parties responsible for processing any personnel actions or conducting administrative hearings or appeals, or if needed in the performance of authorized duties.

n. To the Department of Justice or a consumer reporting agency for further action on a delinquent debt when circumstances warrant.

o. To employers to the extent necessary to obtain information pertinent to the individual's fitness and qualifications for training and to provide training status.

p. To the United States Coast Guard Voluntary Education Program Office for the purpose of education counseling, financial management, and funds disbursement.

q. To a public or professional licensing organization when such information indicates, either by itself or in combination with other information, a violation or potential violation of professional standards, or reflects on the moral, educational, or professional qualifications of an individual who is licensed or who is seeking to become licensed.

POLICIES AND PRACTICES FOR STORAGE OF RECORDS:

Records may be stored electronically or on paper in secure facilities in a locked drawer behind a locked door. The records may be stored on magnetic disc, tape, and digital media.

POLICIES AND PRACTICES FOR RETRIEVAL OF RECORDS:

Records may be retrieved by name, agency, birth date, SSN, DoD ID number, or other DoD assigned student or educational ID number.

POLICIES AND PRACTICES FOR RETENTION AND DISPOSAL OF RECORDS:

a. Non-mission employee training program records are maintained and disposed in accordance with National Archives and Records Administration General Records Schedule 2.6.

b. Mission-related training records are maintained and disposed in accordance with National Archives and Records Administration Schedules. The Military Departments, Joint Chiefs of Staff and OSD all retain in accordance with their individual Records and Information Management retention schedules.

ADMINISTRATIVE, TECHNICAL, AND PHYSICAL SAFEGUARDS:

DoD components safeguard records in this system of records according to applicable rules, policies, and procedures, including all applicable DoD automated systems security and access policies. DoD policies require the use of controls to minimize the risk of compromise of personally identifiable information (PII) in paper and electronic form and to enforce access by those with a need to know and with appropriate clearances. Additionally, the DoD has established security audit and accountability policies and procedures which support the safeguarding of PII and detection of potential PII incidents. The DoD routinely employs safeguards such as the following to information systems and paper recordkeeping systems: Multifactor log-in authentication including CAC authentication and password; SIPR token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should address written inquiries to the DoD office with oversight of the records. The public may identify the appropriate DoD office through the following website: www.FOIA.gov. Signed written requests should contain the name and number of this system of records notice along with the full name, identifier (i.e., DoD ID Number or Defense Benefits Number), date of birth, current address, and telephone number of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURES:

Individuals seeking to determine whether information about themselves is contained in this system should address written inquiries to the appropriate system managers(s). Signed written requests should contain the full name, identifier (i.e., DoD ID Number or DoD Benefits Number), date of birth, and current address and telephone number of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

The DoD has exempted records maintained in this system from 5 U.S.C. 552a(c)(3) and (d) of the Privacy Act, pursuant to 5 U.S.C. 552a(k)(1) and (k)(6). In addition, when exempt records received from other systems of records become part of this system, the DoD also claims the same exemptions for those records that are claimed for the original primary systems of records from which they originated and claims any additional exemptions set forth here. An exemption rule for this system has been promulgated in accordance with the requirements of 5 U.S.C. 553(b)(1), (2), and (3), and (c), and published in 32 CFR part 310.

HISTORY:

None.

[FR Doc. 2020-26548 Filed 12-23-20; 8:45 am]

BILLING CODE 5001-06-P